Title 3—

The President

Proclamation 10124 of December 4, 2020

Human Rights Day, Bill of Rights Day, and Human Rights Week, 2020

By the President of the United States of America

A Proclamation

Nearly 250 years ago, heroes of our Revolution signed the Declaration of Independence, offering a bold enumeration of inalienable rights endowed to us by our Creator. In time, with independence secured from a tyrannical monarchy, our Nation etched these principles of liberty and equality into the law of our fledgling Nation when we ratified our Constitution. The revolutionary idea they embodied—that certain individual rights are beyond the reach of government—has resonated around the world. Today, and this week, we celebrate our sacred rights and the example they have set for the rest of history.

James Madison, who drafted the Bill of Rights text, was initially skeptical of the need to secure specific rights explicitly in the Constitution, believing the checks and balances inherent in our system of government would operate to achieve that objective. But he came to recognize the value that the Bill of Rights could provide and worked to ensure that the individual rights and freedoms of Americans were precisely enumerated in the highest law of the land. Madison was acutely aware that, while a government formed to serve its people is just and legitimate, “power, lodged as it must in human hands, will ever be liable to abuse.” Accordingly, he worked to imprint essential human rights, including the rights to peaceful assembly, freedom of speech, and free exercise of religion in our foundational legal text, empowering generations of Americans by protecting them from government abuses.

The revolutionary understanding of human rights reflected in the Declaration of Independence and encoded in our Constitution has provided a blueprint for the world in advancing individual human rights. In 1948, looking to our Bill of Rights as a model, the United Nations General Assembly established the Universal Declaration of Human Rights, which recognizes the “inherent dignity” and “equal and inalienable rights” of mankind. Earlier this year, we also celebrated the 45th anniversary of the signing of the Helsinki Accords, in which the Western World acknowledged similar fundamental human freedoms in defiance of the Soviet Union.

Despite these milestones, the world is still plagued by tragic human rights abuses, including the oppression of women, forced labor, racism, and ethnic and religious persecution. My Administration continues to fight these injustices on all fronts while calling on other sovereign nations to respect the unalienable rights of their people. Earlier this year, I signed an Executive Order on Preventing Online Censorship, which protects and fosters freedom of expression for Americans on social media and other platforms and also seeks to combat human rights abuses abroad like the mass imprisonment of religious minorities in China, which are often obscured by a cloud of false information online. Additionally, I recently signed an Executive Order on Advancing International Religious Freedom, which prioritizes this fundamental freedom in American diplomacy and recognizes that advancing religious freedom abroad is vital to combating rising levels of violence and crimes against humanity around the globe. There is no greater defender of liberty than the United States, and we will remain steadfast in our efforts.

During Human Rights Day, Bill of Rights Day, and Human Rights Week, we cherish the unique story of our Nation and celebrate the patriots who helped our country secure our fundamental rights, freedoms, and values for ourselves and our posterity. We also take pride in the role that this heritage has played in advancing and protecting human rights around the world. America's commitment to individual liberty and human dignity is at our very core. We acknowledge that the principles set forth in the Bill of Rights are foundational, and we recommit to ensuring their legacy in our country as we continue to lead the way toward stronger human rights protections around the world.

NOW, THEREFORE, I, DONALD J. TRUMP, President of the United States of America, by virtue of the authority vested in me by the Constitution and the laws of the United States, do hereby proclaim December 10, 2020, as Human Rights Day; December 15, 2020, as Bill of Rights Day, and the week beginning on December 6, 2020, as Human Rights Week. I call upon the people of the United States to mark these observances with appropriate ceremonies and activities.

IN WITNESS WHEREOF, I have hereunto set my hand this fourth day of December, in the year of our Lord two thousand twenty, and of the Independence of the United States of America the two hundred and forty-fifth.

[FR Doc. 2020-27242

Filed 12-8-20; 11:15 am]

Billing code 3295-F1-P